DEPARTMENT OF TRANSPORTATION

Research and Special Programs Administration

[Docket No. RSPA-04-18817; Notice 1]

Pipeline Safety: Petition for Waiver; Tractebel Power, Inc.

AGENCY: Research and Special Programs Administration (RSPA), DOT.

ACTION: Notice; petition for waiver.

SUMMARY: Tractebel Power, Inc. (TPI) has petitioned the Research and Special Programs Administration's Office of Pipeline Safety (RSPA/OPS) for a waiver from the requirements of 49 CFR 192.113 to employ a 1.0 longitudinal joint factor (LJF) in the design formula for austenitic stainless steel pipe to be used in its Tractebel Calypso Pipeline (TCP) project.

DATES: Persons interested in submitting written comments on the waiver proposed in this notice must do so by October 18, 2004. Late-filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket at http://dms.dot.gov. General information about our pipeline safety program is available at http://ops.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: James Reynolds by phone at 202-366-2786, by fax at 202-366-4566, by mail at DOT, RSPA, OPS, 400 Seventh Street, SW., Washington, DC 20590, or by e-mail at james.reynolds@rspa.dot.gov.

SUPPLEMENTARY INFORMATION: TPI's Tractebel Calypso Pipeline project includes a 96 mile, 24-inch diameter, X65 steel, standard API 5L compliant interstate natural gas pipeline. The pipeline will transport natural gas from TPI's liquefied natural gas (LNG) receiving and re-gasification terminal in Freeport, Grand Bahamas Island, to an onshore location in Broward County, FL. The offshore portion of the pipeline will be in a Class 1 area and extend from the shoreline to a water depth of 200 feet. The onshore portion of the pipeline will be in a Class 3 area.

TPI proposes to route a portion of this pipeline through a U.S. Navy exclusion zone offshore of Port Everglades, in Broward County, FL. As a condition of the pipeline traversing the exclusion zone, the U.S. Navy stipulated that approximately 14,000 feet of the pipeline be constructed of a low magnetic permeability steel material to prevent electromagnetic interference with U.S. Navy operations. A large percentage of this pipe will be installed using horizontal directional drill technology. TPI intends to use austenitic stainless steel pipe to satisfy the U.S. Navy requirement.

TPI has petitioned RSPA/OPS for a waiver from 49 CFR 192.113 to use 1.0 longitudinal joint factor (LJF) for austenitic stainless steel pipe. Section 192.113 requires a 0.80 LJF to be used in the design formula given under § 192.105 for pipe over 4 inches in diameter and manufactured to a specification not listed under § 192.113. This limitation is imposed because the quality of the pipe material, the manufacturing process, and the extent of inspection may not be to the same standard as the pipe for which a 1.0 LJF is permitted.

TPI stated the following reasons for selecting austenitic stainless steel pipe and the use of a 1.0 LJF:

• The pipeline meets the requirements of the U.S. Navy and is a low magnetic permeability pipe material;

• The pipeline is manufactured to the American Society for Testing and Materials (ASTM) standards ASTM A-358 and A-999;

• The plate material is manufactured to comply with standards ASTM A-240 and Unified Numbering System S31254;

• The selected material is compatible with the bending properties and the test criteria in Appendix B of 49 CFR Part 192;

• The selected material is compatible with the weldability testing and inspection criteria required by Appendix B of 49 CFR Part 192; and

• The selected material is consistent with prior practice of the American Society of Mechanical Engineers (ASME) standard ASME B31.8 to allow a LJF of 1.0 when the longitudinal seam has been subjected to 100% X-ray.

TPI will require girth weld testing and will X-ray 100% of the girth welds of this pipeline as part of the procurement specification to comply with the weldability requirements of Appendix B, Section II (B) of 49 CFR Part 192. TPI will purchase ASTM A-358, Class 1 pipe and radiograph 100% of the longitudinal joint, and TPI will exceed the tensile testing requirements of ASTM A-358 (Section 12) for both the plate and the welded joint by performing one tensile test per 5 lengths of pipe. Only one test per 10 lengths of pipeline is required under the weldability section of Appendix B Section II (B) of 49 CFR Part 192.

RSPA/OPS is publishing this notice in the Federal Register to provide an opportunity for public comment. At the conclusion of the comment period, RSPA/OPS will make a determination on the proposed waiver and publish its decision in the Federal Register. This notice is RSPA/OPS’ only request for public comment before making its final decision in this matter.

Authority: 49 U.S.C. 60118(c) and 49 CFR 1.53.

Issued in Washington, DC, on September 14, 2004.
Stacey L. Gerard,
Associate Administrator for Pipeline Safety.

[FR Doc. 04-21013 Filed 9-16-04; 8:45 am]

BILLING CODE 4910-60-P